NUCLEAR REGULATORY COMMISSION

[NRC-2014-0001]

Sunshine Act Meeting Notice

DATES: Weeks of August 18, 25, September 1, 8, 15, 22, 2014.

PLACE: Commissioners' Conference Room, 11555 Rockville Pike, Rockville, Maryland.

STATUS: Public and Closed.

Week of August 18, 2014

There are no meetings scheduled for the week of August 18, 2014.

Week of August 25, 2014—Tentative

Tuesday, August 26, 2014

10:00 a.m. Affirmation Session (Public Meeting) (Tentative)

a. Final Rule: Continued Storage of Spent Nuclear Fuel (RIN 3150-AJ20) (Tentative)

b. Direct Final Rule: Safeguards Information—Modified Handling Categorization Change for Materials Facilities (RIN 3150-AJ18) (Tentative)

Week of September 1, 2014—Tentative

There are no meetings scheduled for the week of September 1, 2014.

Week of September 8, 2014—Tentative

Tuesday, September 9, 2014

9:30 a.m. Briefing on NRC International Activities (Closed—Ex. 1 & 9)

Wednesday, September 10, 2014

9:30 a.m. Strategic Programmatic Overview of the New Reactors Business Line (Public Meeting) (Contact: Donna Williams, 301-415-1322)

This meeting will be webcast live at the Web address— http://www.nrc.gov/.

Week of September 15, 2014—Tentative

Monday, September 15, 2014

1:30 p.m. NRC All Employees Meeting (Public Meeting), Marriott Bethesda North Hotel, 5701 Marinelli Road, Rockville, MD 20852

Tuesday, September 16, 2014

9:30 a.m. Briefing on Project Aim 2020 (Closed—Ex. 2)

10:30 a.m. Discussion of Management and Personnel Issues (Closed—Ex. 2 and 6)

Thursday, September 18, 2014

9:30 a.m. Briefing on Management of Low-Level Waste, High-Level Waste, and Spent Nuclear Fuel (Public Meeting), (Contact: Cinthya I. Román, 301-287-9091)

This meeting will be webcast live at the Web address— http://www.nrc.gov/.

Week of September 22, 2014—Tentative

There are no meetings scheduled for the week of September 22, 2014.

* * * * *

The schedule for Commission meetings is subject to change on short notice. To verify the status of meetings, call Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov.

Dated: August 13, 2014.
Rochelle C. Bavol,
Policy Coordinator, Office of the Secretary.

[FR Doc. 2014-19566 Filed 8-14-14; 11:15 am]

BILLING CODE 7590-01-P